DEPARTMENT OF COMMERCE

International Trade Administration

[A-533-808]

Stainless Steel Wire Rod from India: Notice of Court Decision

AGENCY: Import Administration, International Trade Administration, Department of Commerce.

ACTION: Notice of Court decision.

SUMMARY: On August 15, 2002, the United States Court of International Trade (“CIT”) sustained the final remand determination made by the Department of Commerce (“the Department”) pursuant to the Court's remand of the final determination of the administrative review of stainless steel wire rod from India. See Viraj Group, Ltd. v. United States, Ct. No. 00-06-00291, Slip Op. 02-89 (Ct. Int'l Trade August 15, 2002) (“Viraj IV”). This case arises out of the Department's Stainless Steel Wire Rod from India: Notice of Final Results of Antidumping Administrative Review, 65 FR 31302 (May 17, 2002) (“Final Results”). The final judgment in this case was not in harmony with the Department's May, 2002, Final Results.

EFFECTIVE DATE: August 26, 2002.

FOR FURTHER INFORMATION CONTACT: Stephen Bailey, Antidumping/Countervailing Duty Enforcement, Import Administration, International Trade Administration, U.S. Department of Commerce, 14th Street and Constitution Avenue, NW., Washington, DC 20230; telephone (202) 482-1102.

SUPPLEMENTARY INFORMATION: The decision of the Court of International Trade in Viraj IV is that Court's final decision in a series of decisions addressing issues related to the antidumping margin assigned to the Viraj Group, Ltd. (“Viraj”) in the above-referenced Final Results.

In Viraj Group, Ltd. v. United States, Slip Op. 01-104 (CIT August 15, 2001) (“Viraj I”), the Court remanded one aspect of the Final Results. The Court remanded the issue of the exchange rate used by the Department to convert Indian rupees into United States dollars and whether an inaccurate margin resulted. The Court ordered the Department to articulate its reasoning behind its approach to the devaluation on the Indian rupee during the POR and to address properly and explain whether the Department's currency conversion methodology resulted in an accurate dumping margin, and to recalculate the margin if necessary.

In Viraj Group, Ltd. v. United States, Slip Op. 02-24 (CIT February 26, 2002) (“Viraj II”), the court requested that the Department reconsider whether its currency conversion methodology resulted in a fair dumping determination. Specifically, the Court instructed the Department: (1) To examine whether its current currency conversion methodology yields the most accurate dumping margin in this case; (2) to address whether the facts of this case warrant additional consideration of the Department's policy concerning depreciating currencies, and if necessary recalculate Plaintiff's dumping margin; (3) to explain the Department's methodology for currency conversion with regard to sales versus costs; and (4) to explain how a long-term currency devaluation can be ignored by the Department if it is to reach a fair and accurate dumping margin.

In Viraj Group, Ltd. v. United States, Slip Op. 02-52 (CIT June 4, 2002) (“Viraj III”), the Court again remanded the issue of the currency conversion methodology in the Final Results to the Department. In its opinion, the Court instructed the Department to apply a currency conversion methodology that reaches a more accurate dumping margin, explain why such a methodology does or does not further the congressional goal of accuracy in dumping determinations, and explain which method the Department chooses to apply in this case and why it chose that method.

On July 12, 2002, the Department issued its draft results of redetermination of remand. On July 16, 2002, only petitioner (Carpenter Technology Corp.) filed comments. Respondent did not file comments in response to the Department's draft results of redetermination of remand. On July 22, 2002, the Department issued its final results of redetermination of remand to the Court.

On August 15, 2002, the CIT sustained the Department's redetermination on remand. See Viraj Group, Ltd. v. United States, Ct. No. 00-06-00291, Slip Op. 02-89 (CIT August 15, 2002) (“Viraj IV”), In Viraj IV, the CIT concurred on and sustained the results of the Department's redetermination, but did not endorse the reasoning underlying the recalculation of the remand results.

In its decision in Timkin Co., v. United States, 893 F.2d 337, 341 (Fed. Cir. 1990) (“Timkin”), the United States Court of Appeals for the Federal Circuit held that, pursuant to 19 U.S.C. 1516a(e), the Department must publish a notice of a court decision which is not “in harmony” with a Department determination, and must suspend liquidation of entries pending a “conclusive” court decision. The CIT's decision in Viraj IV on August 15, 2002, constitutes a final decision of that court which is “not in harmony” with the Department's final results of antidumping duty administrative review. This notice is published in fulfillment of the publication requirements of Timkin.

Accordingly, the Department will continue the suspension of liquidation of the subject merchandise pending the expiration of the period of appeal, or, if appealed, upon a “conclusive” court decision.

Dated: September 6, 2002.
Faryar Shirzad,
Assistant Secretary for Import Administration.

[FR Doc. 02-23494 Filed 9-13-02; 8:45 am]

BILLING CODE 3510-05-M